DEPARTMENT OF VETERANS AFFAIRS

Advisory Committee on Women Veterans, Notice of Meeting Amendment

The Department of Veterans Affairs (VA) is announcing an amendment to the notice of meeting of the Advisory Committee on Women Veterans on August 20-24, 2012, in the Dennis Auditorium, 2B-137, at the VA Maryland Health Care System, 10 North Green Street, Baltimore, MD, from 8:30 a.m. until 4:30 p.m. each day. This meeting was announced in the Federal Register on Monday, August 13, 2012, (77 FR 156). Any member of the public wishing to attend or seeking additional information should contact Ms. Middleton at (202) 461-6193 and not (202) 273-7092 as previously provided.

Dated: August 13, 2012.
By Direction of the Secretary.
Vivian Drake,
Committee Management Officer.

[FR Doc. 2012-20160 Filed 8-15-12; 8:45 am]

BILLING CODE P